DEPARTMENT OF HEALTH AND HUMAN SERVICES

Administration for Children and Families

Submission for OMB Review; Comment Request

Title: Center for States Evaluation Ancillary Data Collection.

OMB No.: New Collection.

Description: The Evaluation of the Child Welfare Capacity Building Collaborative, Center for States is sponsored by the Children's Bureau, Administration for Children and Families of the U.S. Department of Health and Human Services. The purpose of this evaluation is to respond to a set of cross-cutting evaluation questions posed by the Children's Bureau. This new information collection is an ancillary part of a larger data collection effort being conducted for the evaluation of the Child Welfare Capacity Building Collaborative. Two groups of instruments for the larger evaluation have already been submitted, and requests for clearance have been submitted to the Office of Management and Budget (see Federal Register Volume 80, No. 211, November 2, 2015; Federal Register Volume 81, No. 41, March 2, 2016; Federal Register Volume 81, No. 111, June 9, 2016; Federal Register Volume 81, No. 186, September 26, 2016), with the first group of instruments approved on August 31, 2016. This notice details a group of instruments that are specific only to the Center for States. The instruments focus on (1) evaluating an innovative approach to engaging professionals in networking and professional development through virtual conferences, (2) understanding fidelity to and effectiveness of the Center for States' Capacity Building Model, and (3) capturing consistent information during the updated annual assessment process focused on related contextual issues impacting potential service delivery such as implementation of new legislation.

Respondents: Respondents of these data collection instruments will include child welfare agency staff and stakeholders who directly receive services.

Annual Burden Estimates
Instrument | Number of respondents | Number of responses per respondent | Average burden hours per response | Total annual burden hours
Child Welfare Virtual Conference Session Surveys | 800 | 6 | .08 | 384
Child Welfare Virtual Conference Focus Group Guide | 30 | 1 | 1 | 30
Child Welfare Virtual Conference Interview Guide | 20 | 1 | .5 | 10
Child Welfare Virtual Conference Registration Form | 1500 | 1 | .03 | 45
Child Welfare Virtual Conference Exit Survey | 500 | 1 | .16 | 80
Tailored Services Practice Model Survey | 200 | 1 | .12 | 24
Assessment Observation—Group Debrief | 114 | 1 | .25 | 28.5
Service Delivery and Tracking and Adjustment Observation—Group Debrief | 160 | 1 | .25 | 40
Assessment and Service Delivery State Lead Interviews—Supplemental Questions | 50 | 1 | .5 | 25
Annual Assessment Update (8 systematic questions) | 57 | 1 | .08 | 4.56

Estimated Total Annual Burden Hours: 671.06.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-08961 Filed 5-3-17; 8:45 am]

BILLING CODE 4184-44-P